DEPARTMENT OF HOMELAND SECURITY

Federal Emergency Management Agency

Agency Information Collection Activities: Proposed Collection; Comment Request

AGENCY: Federal Emergency Management Agency, Department of Homeland Security.

ACTION: Notice and request for comments.

SUMMARY: The Federal Emergency Management Agency, as part of its continuing effort to reduce paperwork and respondent burden, invites the general public and other Federal agencies to take this opportunity to comment on proposed continuing information collections. In accordance with the Paperwork Reduction Act of 1995 (44 U.S.C. 3506(c)(2)(A)), this notice seeks comments on hotels and motels and other places of public accommodations meeting the fire safety requirements as identified in Public Law 101-391, Hotel and Motel Fire Safety Act of 1990.

SUPPLEMENTARY INFORMATION: Public Law 101-391 requires FEMA to establish and maintain a National Master List (NML) of fire safe hotels, motels and other places of public accommodation (property). This public law was enacted as a result of a number of major life-loss fires occurring in the late 1970's and 1980's. The purpose of this public law is to assure the traveling public of fire safe accommodations. Under Public Law 101-391, Federal employees on official travel are required to stay in properties approved and listed on the NML.

Collection of Information

Title: Federal Hotel and Motel Fire Safety Declaration Form.

Type of Information Collection: Existing collection.

OMB Number: 1660-0068

Form Numbers: FF 75-13

Abstract: Public Law 101-391 requires FEMA to establish and maintain a National Master List (NML) of fire safe places of public accommodation. The information collected will be available electronically to the general public identifying properties meeting the specified level of fire safety equipment as required in the public law. It is also available to Federal employees required by Public Law 101-391 to stay at properties on the NML when on official travel.

Affected Public: Business or other for-profit, not-for-profit institutions, and the Federal Government.

Estimated Total Annual Burden Hours: 500.

Annual Burden Hours
Project/Activity (survey, form(s), focus group, worksheet,etc.) | No. of respondents (A) | Frequency of responses (B) | Burden hours per respondent (C) | Annual responses (A × B) | Total annual burden hours (A × B × C)
FF 75-13 | 2000 | 1 | 0.25 | 2,000 | 500
Total | 2,000 | 1 | 0.25 | 2,000 | 500

Estimated Cost: $10,000 per year. Rate of first level manager at $20.00 × 0.25 hour × 2,000 respondents.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Chief, Records Management Section, Information Resources Management Branch, Information Technology Services Division, Federal Emergency Management Agency, Department of Homeland Security, 500 C Street, SW., Room 316, Washington, DC 20472.

FOR FURTHER INFORMATION CONTACT: Contact Timothy B. Ganley, Fire Program Specialist, Untied States Fire Administration, Department of Homeland Security at (301) 447-1358 for additional informaiton. You may contact the Records Management Branch for copies of the proposed collection of information at facsimile number (202) 646-3347 or email address: FEMA-Information-Collections@dhs.gov.

Dated: November 15, 2005.
Darcy Bingham,
Branch Chief, Information Resources Management Branch, Information Technology Services Division.

[FR Doc. E5-6664 Filed 11-28-05; 8:45 am]

BILLING CODE 9110-17-P